POSTAL REGULATORY COMMISSION

[Docket Nos. MC2025-1203 and CP2023-155; Order No. 8734]

Competitive Postal Products

AGENCY: Postal Regulatory Commission.

ACTION: Notice.

SUMMARY: The Commission is acknowledging a recently filed Postal Service document with the Commission concerning changes in rates and classifications not of general applicability for Competitive products. This notice informs the public of the filing, invites public comment, and takes other administrative steps.

DATES: Comments are due: March 21, 2025.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction and Overview

II. Initial Administrative Actions

III. Ordering Paragraphs

I. Introduction and Overview

On March 5, 2025, the Postal Service filed notice with the Commission concerning classification changes for the Business Rate Card (BRC), which is a rate and class not of general applicability for Competitive products.¹ The Postal Service represents that, as required by 39 CFR 3035.105(b), the Notice includes an explanation and justification for the changes, and the effective date, and a schedule of the changed rates. See Notice at 1. The Notice also includes a certification of the vote, and a redacted copy of Governors' Decision 19-1. Id. The changes are intended to take effect on April 1, 2025, or sooner upon favorable review by the Commission. Id. at 1-2.

¹ USPS Notice of Rate and Classification Changes for Business Rate Card, with Materials Filed Under Seal, March 5, 2025 (Notice).

Attached to the Notice is Attachment A, Governors' Decision No. 19-1, which states the new prices are in accordance with 39 U.S.C. 3632 and 3633 and 39 CFR 3015.5 and 3015.7.² The Governors' Decision provides an analysis of the Competitive products' price and classification changes intended to demonstrate that the changes comply with 39 U.S.C. 3633 and 39 CFR 3015.7(c).³

² Notice, Decision of the Governors of the United States Postal Service on the Establishment of Prices and Classifications for Domestic Competitive Agreements, Outbound International Competitive Agreements, Inbound International Competitive Agreements, and Other Non-Published Competitive Rates, at 2 (Governors' Decision No. 19-1). The referenced regulations have been reorganized since the issuance of Governor's Decision No. 19-1 and are now found at 39 CFR 3035.105 and .107. See Docket No. RM2019-13, Order Reorganizing Commission Regulations and Amending Rules of Practice, January 16, 2020 (Order No. 5407) (effective April 20, 2020).

³ Governors' Decision No. 19-1 at 2. Reorganized to 39 CFR 3035.107(c). See Order No. 5407.

The Notice includes draft revisions to the Mail Classification Schedule reflecting the changes to this class not of general applicability, the updated terms and conditions, and the BRC price floors and supporting financial material filed under seal. Notice at 2.

Planned rate and classification changes. The Postal Service's planned rate and classification changes “will allow for business customers to utilize the Postal Service's Application Programming Interfaces (APIs) to access BRC rates.” Id. at 1. The Postal Service states that the BRC “provided the Postal Service with the ability to extend dynamic competitive pricing to merchants who use the Postal Service's own Click-N-Ship (CNS) platform,” however, “more and more customers are using APIs to integrate USPS services directly into their own software.” Id. at 2-3. The Postal Service states that with these classification changes, its customers “will be able to access the BRC through the use of APIs as well as through Click-N-Ship (CNS)” and that “[t]he API [t]erms and [c]onditions will provide for the same core restrictions for the BRC as previously provided to the Commission for the original BRC on CNS arrangement.” Id. at 3.

The Postal Service asserts that “BRC rates should continue to be sufficiently distinct from rates available to all mailers on the same terms and conditions to be appropriately classified as rates not of general applicability.” Id. at 4. Additionally, the Postal Service states that “the updated BRC price floors will likewise improve the competitiveness of the Postal Service while also ensuring that all product costs are fully covered.” Id.

II. Initial Administrative Actions

The Commission establishes Docket Nos. MC2025-1203 and CP2023-155 for consideration of matters raised by the Notice. Pursuant to 39 U.S.C. 505, Christopher C. Mohr is appointed to serve as Public Representative to represent the interests of the general public in this docket. The Commission invites comments on whether the Postal Service's filing is consistent with 39 U.S.C. 3632, 3633, and 39 CFR 3035.105 and .107. Comments are due no later than March 21, 2025. The public portions of the filing can be accessed via the Commission's website (http://www.prc.gov).

III. Ordering Paragraphs

It is ordered:

1. The Commission establishes Docket Nos. MC2025-1203 and CP2023-155 for consideration of matters raised by the Postal Service's Notice.

2. Comments are due no later than March 21, 2025.

3. Pursuant to 39 U.S.C. 505, Christopher C. Mohr will serve as an officer of the Commission (Public Representative) to represent the interests of the general public in these dockets.

4. The Secretary shall arrange for publication of this Order in the Federal Register.

By the Commission.
Erica A. Barker,
Secretary.

[FR Doc. 2025-03971 Filed 3-12-25; 8:45 am]

BILLING CODE 7710-FW-P